DEPARTMENT OF THE INTERIOR

[FWS-R4-FHC-2014-N110; FVHC98130406900-XXX-FF04G01000]

Deepwater Horizon Oil Spill; Final Programmatic and Phase III Early Restoration Plan and Final Early Restoration Programmatic Environmental Impact Statement; Withdrawal

AGENCY: Department of the Interior.

ACTION: Notice of availability; withdrawal.

SUMMARY: The Department of the Interior (Interior) is withdrawing a notice that announced that Federal and State natural resource trustee agencies (Trustees) had prepared a Final Programmatic and Phase III Early Restoration Plan and Final Early Restoration Programmatic Environmental Impact Statement (Final Phase III ERP/PEIS).

FOR FURTHER INFORMATION CONTACT: Nanciann Regalado, nanciann_regalado@fws.gov.

SUPPLEMENTARY INFORMATION: On June 5, 2014, Interior published a Federal Register notice (79 FR 32570) to inform the public of the availability of the Trustees' Final Phase III ERP/PEIS. However, the Final Phase III ERP/PEIS is currently unavailable. When finalized, the Final Phase III ERP/PEIS will be made available to the public.

For background information, please see the June 5, 2014, notice.

Authorities

The authorities of this action are the Oil Pollution Act of 1990 (33 U.S.C. 2701 et seq.), the implementing Natural Resource Damage Assessment regulations found at 15 CFR 990, the National Environmental Policy Act (42 U.S.C. 4321 et seq.), and the Framework for Early Restoration Addressing Injuries Resulting from the Deepwater Horizon Oil Spill.

Cynthia K. Dohner,
DOI Authorized Official.

[FR Doc. 2014-14088 Filed 6-13-14; 8:45 am]

BILLING CODE 4310-55-P